NUCLEAR REGULATORY COMMISSION

[NRC-2018-0001]

Sunshine Act Meetings

TIME AND DATE: Weeks of October 1, 8, 15, 22, 29, November 5, 2018.

PLACE: Commissioners' Conference Room, 11555 Rockville Pike, Rockville, Maryland.

STATUS: Public and closed.

MATTERS TO BE CONSIDERED:

Week of October 1, 2018

There are no meetings scheduled for the week of October 1, 2018.

Week of October 8, 2018—Tentative

Thursday, October 11, 2018

9:00 a.m. Strategic Programmatic Overview of the Decommissioning and Low-Level Waste and Spent Fuel Storage and Transportation Business Lines (Public). (Contact: Matthew Meyer: 301-415-6198)

This meeting will be webcast live at the Web address— http://www.nrc.gov/.

Week of October 15, 2018—Tentative

There are no meetings scheduled for the week of October 15, 2018.

Week of October 22, 2018—Tentative

Thursday, October 25, 2018

9:00 a.m. Briefing on Digital Instrumentation and Control (Public). (Contact: Jason Paige: 301-415-1474)

This meeting will be webcast live at the Web address— http://www.nrc.gov/.

Week of October 29, 2018—Tentative

There are no meetings scheduled for the week of October 29, 2018.

Week of November 5, 2018—Tentative

There are no meetings scheduled for the week of November 5, 2018.

CONTACT PERSON FOR MORE INFORMATION: For more information or to verify the status of meetings, contact Denise McGovern at 301-415-0681 or via email at Denise.McGovern@nrc.gov. The schedule for Commission meetings is subject to change on short notice.

The NRC Commission Meeting Schedule can be found on the internet at: http://www.nrc.gov/public-involve/public-meetings/schedule.html.

The NRC provides reasonable accommodation to individuals with disabilities where appropriate. If you need a reasonable accommodation to participate in these public meetings, or need this meeting notice or the transcript or other information from the public meetings in another format (e.g., braille, large print), please notify Kimberly Meyer-Chambers, NRC Disability Program Manager, at 301-287-0739, by videophone at 240-428-3217, or by email at Kimberly.Meyer-Chambers@nrc.gov. Determinations on requests for reasonable accommodation will be made on a case-by-case basis.

Members of the public may request to receive this information electronically. If you would like to be added to the distribution, please contact the Nuclear Regulatory Commission, Office of the Secretary, Washington, DC 20555 (301-415-1969), or you may email Patricia.Jimenez@nrc.gov or Wendy.Moore@nrc.gov.

Dated at Rockville, Maryland, on September 27, 2018.
For the Nuclear Regulatory Commission.
Denise L. McGovern,
Policy Coordinator, Office of the Secretary.

[FR Doc. 2018-21527 Filed 9-28-18; 11:15 am]

BILLING CODE 7590-01-P